DEPARTMENT OF AGRICULTURE

Forest Service

Sitka Resource Advisory Committee

AGENCY: Forest Service, USDA.

ACTION: Notice of meeting.

SUMMARY: The Sitka Resource Advisory Committee will meet in Sitka, Alaska. The committee is meeting as authorized under the Secure Rural Schools and Community Self-Determination Act (Pub. L. 110-343) and in compliance with the Federal Advisory Committee Act. The purpose of this meeting, is to nominate a new Chairman, revise charter and discuss monitoring of projects.

DATES: The meetings will be held on November 20, 2012, and will begin at 4:00 p.m.

ADDRESSES: The meeting will be held at the Forest Service Building, Katlian Conference Room, 204 Siginaka Way, Sitka, Alaska. Written comments should be sent to Lisa Hirsch, Sitka Ranger District, 204 Siginaka Way, Sitka, Alaska 99835. Comments may also be sent via email to lisahirsch@fs.fed.us, or via facsimile to 907-747-4253.

All comments, including names and addresses when provided, are placed in the record and are available for public inspection and copying. The public may inspect comments received at Sitka Ranger District, 204 Siginaka Way, Sitka, Alaska. Visitors are encouraged to call ahead to 907-747-4214 to facilitate entry into the building.

FOR FURTHER INFORMATION CONTACT: Lisa Hirsch, RAC coordinator, USDA, Tongass NF, Sitka Ranger District, 204 Siginaka Way, Sitka, Alaska 99835; 907-747-4214; Email lisahirsch@fs.fed.us.

SUPPLEMENTARY INFORMATION: The meeting is open to the public. The following business will be conducted: (1) Introductions of all committee members, replacement members and Forest Service personnel. (2) Selection of a chairperson by the committee members. (3) Receive materials explaining the process for considering and recommending Title II projects; and (4) Public Comment. Persons who wish to bring related matters to the attention of the Committee may file written statements with the Committee staff before or after the meeting.

Dated: October 30, 2012.
Carol A. Goularte,
Designated Federal Officer.

[FR Doc. 2012-27272 Filed 11-8-12; 8:45 am]

BILLING CODE 3410-11-M